Proclamation 10003 of March 31, 2020

National Donate Life Month, 2020

By the President of the United States of America

A Proclamation

During National Donate Life Month, we honor the selfless individuals whose remarkable generosity has helped give others the gift of life. Countless Americans have benefited from people who have registered as organ, eye, or tissue donors, and we recognize our Nation's unrivaled medical community for helping make donor transplants possible. Through the talents of doctors all across our country and the gifts of donors, the quality of life for thousands of Americans has been improved.

Approximately 60 percent of American adults have registered as organ, eye, and tissue donors. In 2019, almost 40,000 American patients received transplants, which resulted in the most lives saved through organ donations ever during a single year. We all have the power to help: One donor can save up to 8 lives through organ donation and help improve more than 75 other lives through eye and tissue donation.

Today, more than 110,000 men, women, and children in the United States are awaiting lifesaving organ transplants. While tremendous progress has been made, the need for additional organ donors is vital. Every 9 minutes another name is added to the long list of Americans desperately waiting for transplants. Additionally, nearly 18,000 people in the United States have been diagnosed with illnesses for which blood stem cell transplantation is the best treatment option. Over 65 percent of these individuals do not have appropriately matched family members and rely upon blood stem cell donors from outside their family to help save their lives. We are grateful for the more than 30 million adults who are currently registered as marrow donors. But more are needed to ensure all who need a transplant can find a match.

To help increase access to transplants, in July 2019, I signed an Executive Order on Advancing American Kidney Health. The Executive Order increases access to kidney transplants by modernizing the organ recovery and transplantation systems and updating and fixing outdated and counterproductive regulations. It also provides increased support for living donors, increasing the supply of transplantable kidneys by removing financial barriers to living donations.

Every person is a potential organ or tissue donor with the power to give the gift of life. This month, we are grateful to the generous Americans who register as donors and to the researchers, scientists, and medical professionals who ensure transplants are safe and successful. I strongly encourage all willing and able Americans to sign up as organ or tissue donors to help instill greater hope in those awaiting a donor match and improve and save the lives of their fellow citizens.

NOW, THEREFORE, I, DONALD J. TRUMP, President of the United States of America, by virtue of the authority vested in me by the Constitution and the laws of the United States, do hereby proclaim April 2020 as National Donate Life Month. I call upon health professionals, volunteers, educators, government agencies, faith-based and community groups, and private organizations to help raise awareness of the urgent need for organ and tissue donors throughout our Nation.

IN WITNESS WHEREOF, I have hereunto set my hand this thirty-first day of March, in the year of our Lord two thousand twenty, and of the Independence of the United States of America the two hundred and forty-fourth.

[FR Doc. 2020-07305

Filed 4-3-20; 8:45 am]

Billing code 3295-F0-P